SMALL BUSINESS ADMINISTRATION

Notice Inviting Application for Funding Under the 7(j) Management and Technical Assistance Program

AGENCY: U.S. Small Business Administration.

ACTION: Notice of invitation for proposals for 7(j) management and technical assistance awards in FY 2003.

SUMMARY: The U.S. Small Business Administration (SBA) plans to issue program announcement No. MTA-03-01, to solicit proposals from public or private organizations, to provide business development assistance and training for nationwide 7(j) eligible client executives. The authorizing legislation for this training is section 7(j) of the Small Business Act, U.S.C. 636(j). SBA will select successful proposals using a competitive process.

Awardees will have responsibility for project oversight, design, marketing, management, execution, monitoring and reporting for the training program. Proposals are being solicited from organizations that have experience in Executive Education or similar Programs and have successfully provided executive level training to small business entrepreneurs on at least 3 occasions during the past five (5) years. Colleges and universities that respond to this solicitation, must have American Assembly for Collegiate Schools of Business (AACSB) accreditation or be a member of the American Indian Higher Education consortium (AIHEC). The applicant must have the qualified faculty, support staff, training and technical materials, equipment and facilities, or access to facilities, as well as an internal financial management system, to provide Executive Education Program (EEP) training services to 7(j) eligible client executives in a classroom environment.

The EEP proposal should present training that will develop and improve the management and business decision skills of the 7(j) eligible clients. The enhancement of these skills should ensure the continued viability and growth of the small business owners in the 21st century. The EEP training curriculum must include the following three core subject matters for small business owners: strategic planning, financial analysis and, e-commerce. Additional subject matters should include some of the following: internal management systems, business alliances, government contracting, information technology, market research, financial reporting, product lines, quality assurance services, human resources, insurance, taxation, legal issues, investments, international business opportunities and etc.

SBA plans to award approximately $700,000.00, subject to the availability of funds, under this notice. This amount would fund several awards which would provide EEP training to approximately 175 7(j) eligible executives. SBA reserves the right to fund, in whole or in part, any, all, or none of the proposals submitted in response to this notice. Awards will have a project period of three (3) years-an initial 12-month budget period with up to two (2) options years. Award amounts may vary, depending on the number of 7(j) eligible clients that an applicant is able to train (and performance for option years). However, no single awardee may receive more than $400,000.00 in a single fiscal year. All proposals must provide training sessions for at least 30 eligible executives per class.

The selection criteria to be used for this competition will be provided in the application package.

DATES: The closing date for applications will be July 9, 2003.

ADDRESSEES: To obtain a copy of the complete application package call Adrienne Dinkins at (202) 205-7140, or go to SBA's Web site at http://www.sba.gov.

FOR APPLICATIONS AND FURTHER INFORMATION: Questions concerning the technical aspects of this notice should be directed to Jacqueline Fleming at (202) 205-6177. Questions about budget or funding matters should be directed to Adrienne Dinkins at (202) 205-7140.

Program Authority: 15 U.S.C. 636(j).

Luz Hopewell,
Associate Administrator, Business Development.

[FR Doc. 03-14390 Filed 6-6-03; 8:45 am]

BILLING CODE 8025-01-P